DEPARTMENT OF HOMELAND SECURITY

Coast Guard

[Docket No. USCG-2014-0687]

Towing Safety Advisory Committee; Vacancies

AGENCY: Coast Guard, DHS.

ACTION: Request for applications.

SUMMARY: The Coast Guard seeks applications for membership on the Towing Safety Advisory Committee. The Towing Safety Advisory Committee advises the Secretary of the Department of Homeland Security on matters relating to shallow-draft inland and coastal waterway navigation and towing safety. Applicants selected for service on the Towing Safety Advisory Committee via this solicitation will not begin their respective terms until September 30, 2015.

DATES: Completed applications should reach the Coast Guard February 2, 2015.

ADDRESSES: Send your application via one of the following methods:

• By Email: William.J.Abernathy@USCG.mil.

• By Fax: 202-372-8382.

• By Mail: Commandant (CG-OES-2) ATTN: Towing Safety Advisory Committee, U.S. Coast Guard, Stop 7509, 2703 Martin Luther King Jr. Avenue SE., Washington, DC 20593-7509.

FOR FURTHER INFORMATION CONTACT: William J. Abernathy, Alternate Designated Federal Officer of the Towing Safety Advisory Committee; telephone 202-372-1363; Fax 202-372-8382; or email at: William.J.Abernathy@USCG.mil.

SUPPLEMENTARY INFORMATION: The Towing Safety Advisory Committee is a Federal advisory committee which operates under the provisions of the Federal Advisory Committee Act, Title 5 United States Code Appendix. It was established under authority of the Act to establish a Towing Safety Advisory Committee in the Department of Transportation, (Pub. L. 96-380), which was most recently amended by section 621 of the Coast Guard Authorization Act of 2010, (Pub. L. 111-281). The Committee advises the Secretary of Homeland Security on matters relating to shallow-draft inland and coastal waterway navigation and towing safety. This advice also assists the Coast Guard in formulating the position of the United States regarding the towing industry in advance of International Maritime Organization meetings.

It is expected the Committee will meet twice per year either in the Washington, DC, area or in cities with large towing centers of commerce and populated by high concentrations of towing industry and related businesses. It may also meet for extraordinary purposes. Subcommittees of the Towing Safety Advisory Committee may conduct intercessional telephonic meetings, when necessary, in response to specific U.S. Coast Guard tasking. The Coast Guard is currently considering applications for six positions that will become vacant on September 30, 2015:

○ Two members representing the barge and towing industry;

○ One member representing the offshore mineral and oil supply vessel industry;

○ One member representing the holders of active licensed Masters of towing vessels in offshore service;

○ One member representing shippers engaged in the shipment of oil or hazardous materials by barge; and,

○ One member drawn from the general public.

To be eligible, applicants should have particular expertise, knowledge, and experience regarding shallow- draft inland and coastal waterway navigation and towing safety.

Registered lobbyists are not eligible to serve on federal advisory committees in their individual capacity. See guidance notice (79 FR 47482, August 13, 2014). The position we list for a member drawn from the general public would be someone appointed in their individual capacity and would be designated as a Special Government Employee as defined in 202(a) of Title 18, United States Code. Registered lobbyists are lobbyists required to comply with provisions contained in the Lobbying Disclosure Act of 1995 (Pub. L. 104-65, as amended by Title II of Pub. L. 110-81).

Each member serves for a term of up to three (3) years. Members may be considered to serve a maximum of three consecutive terms. All members serve without compensation from the Federal Government; however, upon request, members may receive travel reimbursement and per diem.

In an effort to maintain a geographic balance of membership, we are encouraging representatives from tug and barge companies operating on the Western Rivers to apply for representation on the Committee.

The Department of Homeland Security does not discriminate in selection of Committee members on the basis of race, color, religion, sex, national origin, political affiliation, sexual orientation, gender identity, marital status, disability and genetic information, age, membership in an employee organization, or other non-merit factors. The Department of Homeland Security strives to achieve a widely diverse candidate pool for all of its recruitment selections.

If you are selected as a non-representative member, or as a member drawn from the general public, you will be appointed and serve as a Special Government Employee as defined in section 202(a) of Title 18, United States Code. As a candidate for appointment as a Special Government Employee, applicants are required to complete a Confidential Financial Disclosure Report (OGE Form 450). The Coast Guard may not release the reports or the information in them to the public except under an order issued by a Federal court or as otherwise provided under the Privacy Act (5 U.S.C. 552a). Applicants can obtain this form by going to the Web site of the Office of Government Ethics (www.oge.gov), or by contacting the individual listed in FOR FURTHER INFORMATION CONTACT. Applications for a member drawn from the general public which are not accompanied by a completed OGE Form 450 will not be considered.

If you are interested in applying to become a member of the Committee, send a cover letter and résumé to William J. Abernathy, Alternate Designated Federal Officer of the Towing Safety Advisory Committee by email, fax, or mail according to the instructions in the ADDRESSES section by the deadline in the DATES section of this notice. Indicate the specific position you request to be considered for and specify your area of expertise, knowledge, and experience that qualifies you to serve on the Towing Safety Advisory Committee. Note that during the vetting process applicants may be asked to provide date of birth and social security number. All email, fax, and mail submittals will receive email receipt confirmation.

Dated: November 6, 2014.
J.G. Lantz,
Director of Commercial Regulations and Standards, United States Coast Guard.

[FR Doc. 2014-28342 Filed 12-1-14; 8:45 am]

BILLING CODE 9110-04-P